DEPARTMENT OF ENERGY

Federal Energy Regulatory Commission

[Docket No. RP03-209-000]

Florida Gas Transmission Company; Notice of Filing of Anual Report

December 24, 2002.

Take notice that on December 20, 2002,Florida Gas Transmission Company (FGT) tendered for filing, pursuant to section 19.1 of the General Terms and Conditions (GTC) of its FERC Gas Tariff, Third Revised Volume No. 1, schedules detailing certain information related to its Cash-Out Mechanism, Fuel Resolution Mechanism and Balancing Tools charges for the accounting months October 2001 through September 2002. No tariff changes are proposed.

FGT states that it has recorded excess revenues of $3,144,160 during the current Settlement Period, which when combined with the $7,227,130 net deficiency carried forward from the preceding settlement period and interest of $290,282, result in a cumulative net cost balance of $4,373,252 as of September 30, 2002.

Any person desiring to be heard or to protest said filing should file a motion to intervene or a protest with the Federal Energy Regulatory Commission, 888 First Street, NE., Washington, DC 20426, in accordance with sections 385.214 or 385.211 of the Commission's rules and regulations. All such motions or protests must be filed on or before December 31, 2002. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Linwood A. Watson, Jr.,
Deputy Secretary.

[FR Doc. 02-32970 Filed 12-27-02; 8:45 am]

BILLING CODE 6717-01-P